DEPARTMENT OF TRANSPORTATION

Federal Aviation Administration

14 CFR Part 39

[Docket No. FAA-2015-0495; Directorate Identifier 2014-NM-172-AD; Amendment 39-18435; AD 2016-06-04]

RIN 2120-AA64

Airworthiness Directives; The Boeing Company Airplanes

AGENCY: Federal Aviation Administration (FAA), DOT.

ACTION: Final rule.

SUMMARY: We are adopting a new airworthiness directive (AD) for certain The Boeing Company Model 737-300, -400, and -500 series airplanes. This AD was prompted by reports of cracking at certain fastener locations in the window corners of the window belt area. This AD requires repetitive high frequency eddy current (HFEC) inspections for fatigue cracking in certain fastener locations in the window corners of the window belt area, and related investigative and corrective actions if necessary. This AD also provides an optional preventive modification that terminates the inspections at the modified location. We are issuing this AD to detect and correct fatigue cracking around fastener locations that could cause multiple window corner skin cracks, which could result in rapid decompression and loss of structural integrity of the airplane.

DATES: This AD is effective April 22, 2016.

The Director of the Federal Register approved the incorporation by reference of a certain publication listed in this AD as of April 22, 2016.

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2015-0495.

Examining the AD Docket

You may examine the AD docket on the Internet at http://www.regulations.gov by searching for and locating Docket No. FAA-2015-0495; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Jennifer Tsakoumakis, Aerospace Engineer, Airframe Branch, ANM-120L, FAA, Los Angeles Aircraft Certification Office (ACO), 3960 Paramount Boulevard, Lakewood, CA 90712-4137; phone: 562-627-5264; fax: 562-627-5210; email: jennifer.tsakoumakis@faa.gov.

SUPPLEMENTARY INFORMATION:

Discussion

We issued a notice of proposed rulemaking (NPRM) to amend 14 CFR part 39 by adding an AD that would apply to certain The Boeing Company Model 737-300, -400, and -500 series airplanes. The NPRM published in the Federal Register on March 24, 2015 (80 FR 15523) (“the NPRM”). The NPRM was prompted by reports of cracking at certain fastener locations in the window corners of the window belt area. The NPRM proposed to require repetitive HFEC inspections for fatigue cracking in certain fastener locations in the window corners of the window belt area, and related investigative and corrective actions if necessary. We are issuing this AD to detect and correct fatigue cracking around fastener locations that could cause multiple window corner skin cracks, which could result in rapid decompression and loss of structural integrity of the airplane.

Comments

We gave the public the opportunity to participate in developing this AD. The following presents the comments received on the NPRM and the FAA's response to each comment.

Request for Clarification of Location of the Twelve Fastener Inspections

Southwest Airlines (SWA) requested that a correction be made to paragraph (g) of the proposed AD to clarify the areas for the inspection of the twelve fastener locations. SWA noted that paragraph (g) of the proposed AD stated to inspect locations “at the upper forward and lower aft corners of each window between station (STA) 360 and STA 540 and between STA 727 and STA 908.” SWA stated that between STA 727 and STA 908, Boeing Alert Service Bulletin 737-53A1328, dated July 22, 2014, specifies the location as the lower forward and upper aft corners.

We agree with the commenter for the reason provided. We have revised paragraph (g) of this AD to require an inspection of the twelve fastener locations at the upper forward and lower aft corners of each window between STA 360 and STA 540 and at the upper aft and lower forward corners of each window between STA 727 and STA 908.

Request for Clarification of the Intent of the Inspection Requirements in Paragraph (g) of the Proposed AD

SWA requested that we clarify the intent of paragraph (g) of the proposed AD. SWA stated that paragraph (g) of the proposed AD states to accomplish the inspections at the times specified in tables 1 and 2 of paragraph 1.E., “Compliance,” of Boeing Alert Service Bulletin 737-53A1328, dated July 22, 2014, and then repeat the inspections at the applicable times specified in tables 1 and 2 until “the terminating action in paragraph (h) of this AD is accomplished,” which is the optional preventive modification in Part 3 of the Accomplishment Instructions of Boeing Alert Service Bulletin 737-53A1328, dated July 22, 2014. SWA stated that, per note (b) in tables 1 and 2, accomplishment of the preventive modification in accordance with Boeing Alert Service Bulletin 737-53A1328, dated July 22, 2014, is terminating action for both the initial and repeat inspections at the modified locations. SWA stated that paragraph (g) of the proposed AD does not mention the option to accomplish the actions specified in paragraph (h) of the proposed AD in lieu of the initial inspection specified in paragraph (g) of this AD; it only states to “repeat the inspections . . . until the terminating action specified in paragraph (h) of this AD is done.” SWA noted it is unclear if the intent of paragraph (g) of this AD is to require accomplishment of the Part 1 external surface HFEC inspections of the skin prior to accomplishing the Part 3 preventive modification instructions, or if the intent of paragraph (g) of the proposed AD is to provide the operator the option to accomplish paragraph (h) of the proposed AD (preventive modification) in lieu of accomplishing paragraph (g) of the proposed AD (inspections), since the Part 3 modification instructions include open hole HFEC inspections of the skin.

We agree to provide clarification. Paragraph (g) of this AD is not required at the time of accomplishment of the preventive modification specified in paragraph (h) of this AD. Paragraph (h) of this AD states that the preventive modification (including all applicable related investigative and corrective actions) terminates the inspections in paragraph (g) of this AD. This means all inspections (initial and repetitive) in paragraph (g) of this AD are not required if paragraph (h) of this AD is done. We have not changed this AD in this regard.

Request for Clarification of Existing Repairs

SWA requested clarification about existing repairs that meet the requirements of note (a) in tables 1 and 2 of paragraph l.E., “Compliance,” of Boeing Alert Service Bulletin 737-53A1328, dated July 22, 2014. SWA also requested to extend the note to apply to existing repairs that address damage other than cracking, provided that the repairs are evaluated and approved by Boeing via an FAA Form 8100-9. In addition, SWA requested we clarify whether note (a) applies only to reinforcing repairs that encompass all twelve fastener locations at a window corner, or if note (a) also applies to existing non-reinforcing oversize hole repairs.

We partially agree with the commenter. We agree with adding a paragraph to this AD to provide credit for previously approved repairs to address cracking issues, because Boeing Organization Designation Authorization (ODA) approved repairs installed prior the effective date of this AD are acceptable for terminating the initial and repetitive inspections in the area under the repair. We disagree with allowing any other repair as an alternative method of compliance (AMOC) because other repairs may or may not address the cracking issue. However, operators may request approval of an AMOC for these repairs using the procedures specified in paragraph (l) of this AD.

We have added new paragraph (g)(1) to this AD to specify that the inspections required by the introductory text of paragraph (g) of this AD may be terminated in areas with repairs installed prior to the effective date of this AD, provided the repairs are reinforcing and address the cracking issue addressed in this AD, and installation was approved by the Boeing Commercial Airplanes ODA via FAA Form 8100-9.

Request for Clarification of the Termination of Inspection for Repaired Area for Group 1 Airplanes

All Nippon Airways (ANA) requested we clarify if, for Group 1 airplanes as identified in paragraph 1.A.1 “Effectivity,” of Boeing Alert Service Bulletin 737-53A1328, dated July 22, 2014, areas repaired using Boeing Alert Service Bulletin 737-53A1328, dated July 22, 2014, is terminating action for the repaired area. ANA pointed out that table 1 of Boeing Alert Service Bulletin 737-53A1328, dated July 22, 2014, includes this wording.

We agree to provide clarification. Accomplishing a repair in accordance with Part 6 of the Accomplishment Instructions of Boeing Alert Service Bulletin 737-53A1328, dated July 22, 2014, also terminates the inspection of the repaired area for Group 1 airplanes. We have added new paragraph (g)(2) to this AD to specify that repairs done in accordance with Part 6 of the Accomplishment Instructions of Boeing Alert Service Bulletin 737-53A1328, dated July 22, 2014, terminate the inspection required by paragraph (g) of this AD in only the repaired area for Group 1 airplanes only.

Request To Include Provisions for Airplanes Previously Inspected, Modified, and/or Repaired

SWA requested that we revise the NPRM to include provisions for airplanes that were previously inspected, modified, and/or repaired using step 3 of the Accomplishment Instructions of Boeing Service Bulletin 737-53-1306, dated September 22, 2010; Revision 1, dated March 17, 2010; Revision 2, dated October 25, 2011; or Revision 3, dated January 22, 2014; as terminating action for the inspections required by paragraph (g) of the proposed AD, as well as any documented deviations that were approved by the Boeing ODA via an FAA Form 8100-9.

SWA stated that step 3 of Boeing Service Bulletin 737-53-1306 (all revisions) includes inspection, preventive modification, and repair instructions for the window corner locations addressed by the proposed AD. Figures 8 through 10 of Boeing Service Bulletin 737-53-1306 (all revisions) provide inspection and preventive modification instructions, which also include instructions for a fastener oversize repair, edge margin requirements, and window forging replacement. Figures 13 through 18 provide external reinforcing repair instructions. Figures 40 through 43 were added in Boeing Service Bulletin 737-53-1306, Revision 3, dated January 22, 2014, to incorporate the option to replace the window belt panels in lieu of accomplishing the window corner inspections, preventive modification, and approved repairs. SWA stated that it considers the instructions in Step 3 of Boeing Service Bulletin 737-53-1306 (all revisions) to meet the intent of the proposed AD since the instructions address and eliminate the unsafe condition that prompted the proposed AD.

We do not agree to revise this AD because Boeing Service Bulletin 737-53-1306 is specific for SWA. We do not consider it appropriate to include various provisions in an AD applicable only to a single operator's unique configuration of affected airplanes. However, SWA may submit a request for an approval of an AMOC using the procedures specified in paragraph (l) of this AD. We have not changed this AD in this regard.

Requests To Clarify Required Actions

SWA and ANA requested that we clarify which actions specified in Boeing Alert Service Bulletin 737-53A1328, dated July 22, 2014, are required. SWA stated that paragraph (j)(3) of the proposed AD (paragraph (l)(3) in this AD) indicates that steps identified as “RC” (Required for Compliance) in Boeing Alert Service Bulletin 737-53A1328, dated July 22, 2014, must be accomplished “in order to comply with this AD.”

The commenters noted that there are “RC” steps in Boeing Alert Service Bulletin 737-53A1328, dated July 22, 2014, that are not clearly addressed in the proposed AD. SWA noted that Parts 7 and 8 of Boeing Alert Service Bulletin 737-53A1328, dated July 22, 2014, contain steps that are identified as “RC;” however, the proposed AD does not mention the compliance times for these actions. SWA stated that Part 7 of Boeing Alert Service Bulletin 737-53A1328, dated July 22, 2014, provides window frame replacement instructions, and steps 5 and 6 in Part 8 of Boeing Alert Service Bulletin 737-53A1328, dated July 22, 2014, provide post-repair/post-modification inspection instructions for window frames with short edge margin conditions at the compliance times specified in tables 3, 4, and 8 of Boeing Alert Service Bulletin 737-53A1328, dated July 22, 2014. SWA assumed that actions identified in Table 3 and Table 8 are not required for compliance and that the actions identified in Table 4 are required for compliance. SWA also pointed out that step 10 of Part 2 of Boeing Alert Service Bulletin 737-53A1328, dated July 22, 2014, is not “RC,” but could result in accomplishment of Part 7 of Boeing Alert Service Bulletin 737-53A1328, dated July 22, 2014, which has “RC” steps.

We agree to clarify the actions required by this AD. The post-modification and post-repair inspections identified in Table 4 and Table 5 in paragraph 1.E., “Compliance,” of Boeing Alert Service Bulletin 737-53A1328, dated July 22, 2014, are required by this AD. The accomplishment instructions of Boeing Alert Service Bulletin 737-53A1328, dated July 22, 2014, are unclear. Therefore, we have added new paragraph (i) to this AD to specify the actions identified in Table 4 and Table 5 in paragraph 1.E., “Compliance,” of Boeing Alert Service Bulletin 737-53A1328, dated July 22, 2014. We have redesignated subsequent paragraphs accordingly.

Regarding Part 7 of Boeing Alert Service Bulletin 737-53A1328, dated July 22, 2014, if operators chose to do the modification, certain actions specified in Part 3, Part 4, and Part 5 of Boeing Alert Service Bulletin 737-53A1328, dated July 22, 2014, are identified as “RC” steps. Within those steps, there is an on-condition action, which specifies to do Part 7; thus, step 1 of Part 7 of Boeing Alert Service Bulletin 737-53A1328, dated July 22, 2014 is required for compliance.

Steps 2, 3, and 4 of Part 8 of Boeing Alert Service Bulletin 737-53A1328, dated July 22, 2014, are referenced in Table 3 and Table 8 in paragraph 1.E., “Compliance,” of Boeing Alert Service Bulletin 737-53A1328, dated July 22, 2014, and are not required by this AD. We have added new paragraph (k) of this AD to clarify that the post-modification inspections specified in Table 3 and Table 8 in paragraph 1.E., “Compliance,” of Boeing Alert Service Bulletin 737-53A1328, dated July 22, 2014, are airworthiness limitations that are required by maintenance and operational rules; therefore, these inspections are not required by this AD. We have redesignated subsequent paragraphs accordingly.

Request To Clarify Office Responsible for AMOCs

ANA requested that we clarify the office responsible for AMOCs. ANA stated that paragraph (j) of the proposed AD specifies that the Seattle ACO has the authority to approve AMOCs. However, ANA noted it has seen other ADs for out of production airplanes that refer to the Los Angeles ACO.

We agree to clarify. The Los Angeles ACO is currently responsible for AMOCs for the airplanes identified in this AD. We have revised paragraphs (l)(1) and (l)(4) of this AD (paragraphs (j)(1) and (j)(4) of the proposed AD) to refer to the Los Angeles ACO.

Requests for Clarification of Incorrect References

Boeing and SWA requested that we clarify incorrect references in Boeing Alert Service Bulletin 737-53A1328, dated July 22, 2014. The commenters stated that note (e) in Figure 5 of Boeing Alert Service Bulletin 737-53A1328, dated July 22, 2014, incorrectly references table 2 of paragraph 3.B., Work Instructions, for post repair/modification inspections of short edge margins on window frames. The commenters stated that these references should be to table 3 of paragraph 3.B., Work Instructions. Boeing also identified the notes in figures 9, 10, 11, and 12 as additional locations where the reference to table 2 should be to table 3. The commenters requested that we clarify in this AD that repeat post repair and modification inspections for window frames with short edge margins are defined in table 3 rather than table 2 of paragraph 3.B, Work Instructions, in Boeing Alert Service Bulletin 737-53A1328, dated July 22, 2014.

We agree with the commenters that the identified table references in Boeing Alert Service Bulletin 737-53A1328, dated July 22, 2014, are incorrect. We have added new paragraphs (j)(3) and (j)(4) to this AD to specify the correct table references. We have also added new paragraph (j)(5) to this AD to clarify that operators must comply with the edge margin requirements in Table 3 of the Accomplishment Instructions of Boeing Alert Service Bulletin 737-53A1328, dated July 22, 2014. We have also revised paragraphs (g) and (h) of this AD to include references to paragraphs (j)(3), (j)(4), and (j)(5) of this AD.

Effect of Winglets on Accomplishment of the Proposed Actions

Aviation Partners Boeing stated that accomplishing Supplemental Type Certificate (STC) ST01219SE (http://rgl.faa.gov/Regulatory_and_Guidance_Library/rgstc.nsf/0/be866b732f6cf31086257b9700692796/$FILE/ST01219SE.pdf) does not affect the actions specified in the NPRM.

We concur with the commenter. We have redesignated paragraph (c) of the proposed AD as paragraph (c)(1) of this AD and added new paragraph (c)(2) to this AD to state that installation of STC ST01219SE does not affect the ability to accomplish the actions required by this AD. Therefore, for airplanes on which STC ST01219SE is installed, a “change in product” AMOC approval request is not necessary to comply with the requirements of 14 CFR 39.17.

Conclusion

We reviewed the relevant data, considered the comments received, and determined that air safety and the public interest require adopting this AD with the changes described previously—and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under1 CFR Part 51

We reviewed Boeing Alert Service Bulletin 737-53A1328, dated July 22, 2014. The service information describes procedures for HFEC inspections for fatigue cracking in certain fastener locations in the window corners of the window belt area, and related investigative and corrective actions. This service information is reasonably available because the interested parties have access to it through their normal course of business or by the means identified in the ADDRESSES section.

Costs of Compliance

We estimate that this AD affects 142 airplanes of U.S. registry.

We estimate the following costs to comply with this AD:

Estimated Costs: Required Actions
Action | Labor cost | Parts cost | Cost per product | Cost on U.S. operators
Inspection | Up to 2,312 work-hours × $85 per hour = $196,520 per inspection cycle | $0 | Up to $196,520 per inspection cycle | Up to $27,905,840 per inspection cycle.

Estimated Costs: Required Actions
Action | Labor cost | Parts cost | Cost per product
Preventive modification | 108 work-hours × $85 per hour = $9,180 | $0 | $9,180

We estimate the following costs to do any necessary repairs that would be required based on the results of the inspection. We have no way of determining the number of aircraft that might need repairs:

On-Condition Costs
Action | Labor cost | Parts cost | Cost per product
Repair | Up to 18 work-hours × $85 per hour = $1,530 per repair | $0 | Up to $1,530 per repair.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-06-04 The Boeing Company: Amendment 39-18435 ; Docket No. FAA-2015-0495; Directorate Identifier 2014-NM-172-AD.

(a) Effective Date

This AD is effective April 22, 2016.

(b) Affected ADs

None.

(c) Applicability

(1) This AD applies to The Boeing Company Model 737-300, -400, and -500 series airplanes, certificated in any category, as identified in Boeing Alert Service Bulletin 737-53A1328, dated July 22, 2014.

(2) Installation of Supplemental Type Certificate (STC) ST01219SE (http://rgl.faa.gov/Regulatory_and_Guidance_Library/rgstc.nsf/0/be866b732f6cf31086257b9700692796/$FILE/ST01219SE.pdf) does not affect the ability to accomplish the actions required by this AD. Therefore, for airplanes on which STC ST01219SE is installed, a ”change in product” alternative method of compliance (AMOC) approval request is not necessary to comply with the requirements of 14 CFR 39.17.

(d) Subject

Air Transport Association (ATA) of America Code 53, Fuselage.

(e) Unsafe Condition

This AD was prompted by reports of fatigue cracking at certain fastener locations in the window corners of the window belt area. We are issuing this AD to detect and correct fatigue cracking around the fastener locations that could cause multiple window corner skin cracks, which could result in rapid decompression and loss of structural integrity of the airplane.

(f) Compliance

Comply with this AD within the compliance times specified, unless already done.

(g) Inspections

At the applicable time specified in tables 1 and 2 of paragraph 1.E., “Compliance,” of Boeing Alert Service Bulletin 737-53A1328, dated July 22, 2014, except as required by paragraph (j)(1) of this AD: Do external surface high frequency eddy current (HFEC) inspections for cracking of the skin at the 12 fastener locations at the upper forward and lower aft corners of each window between station (STA) 360 and STA 540 and at the upper aft and lower forward corners of each window between STA 727 and STA 908, left-side and right-side of the fuselage, at and between stringers S-11 and S-13; and all applicable related investigative and corrective actions; in accordance with the Accomplishment Instructions of Boeing Alert Service Bulletin 737-53A1328, dated July 22, 2014, except as required by paragraphs (j)(2), (j)(3), (j)(4), and (j)(5) of this AD. Do all applicable related investigative and corrective actions before further flight. Repeat the inspections at the applicable times specified in tables 1 and 2 of paragraph 1.E., “Compliance,” of Boeing Alert Service Bulletin 737-53A1328, dated July 22, 2014. Accomplishing the preventive modification specified in paragraph (h) of this AD terminates the repetitive inspections required by this paragraph at the modified location only.

(1) The inspections required by the introductory text of paragraph (g) of this AD may be terminated in areas with repairs installed prior to the effective date of this AD, provided the repairs are reinforcing and address the cracking issue identified in this AD, and installation was approved by the Boeing Commercial Airplanes Organization Designation Authorization (ODA) via FAA Form 8100-9.

(2) For Group 1 airplanes identified in Boeing Alert Service Bulletin 737-53A1328, dated July 22, 2014: Window corner crack repairs terminate the inspection required by the introductory text of paragraph (g) of this AD in the repaired area only. The repair, including all applicable related investigative and corrective actions, must be done in accordance with Part 6 of the Accomplishment Instructions of Boeing Alert Service Bulletin 737-53A1328, dated July 22, 2014, except as required by paragraphs (j)(2), (j)(3), (j)(4), and (j)(5) of this AD.

(h) Preventive Modification

Accomplishment of a preventive modification in the fastener locations in the window corners of the window belt area between STA 360 and STA 540 and between STA 727 and STA 908, left-side and right-side of the fuselage, at and between stringers S-11 and S-13, terminates the inspections required by paragraph (g) of this AD at the modified location only. The modification, including all applicable related investigative and corrective actions, must be done in accordance with Part 3 of the Accomplishment Instructions of Boeing Alert Service Bulletin 737-53A1328, dated July 22, 2014, except as required by paragraphs (j)(2), (j)(3), (j)(4), and (j)(5) of this AD.

(i) Repetitive Inspections, Replacements, and Corrective Actions

For airplanes having any condition identified in Table 4 or Table 5 of paragraph l.E., “Compliance,” of Boeing Alert Service Bulletin 737-53A1328, dated July 22, 2014: At the applicable times specified in Table 4 and Table 5 of paragraph l.E., “Compliance,” of Boeing Alert Service Bulletin 737-53A1328, dated July 22, 2014, do a window frame replacement or an internal detailed inspection for cracks of the window forging around the fastener collars, as applicable, and do all applicable corrective actions, in accordance with the Accomplishment Instructions of Boeing Alert Service Bulletin 737-53A1328, dated July 22, 2014, except as required by paragraphs (j)(2), (j)(3), (j)(4), and (j)(5) of this AD. Repeat the inspections at the applicable times specified in table 4 and table 5 of paragraph 1.E., “Compliance,” of Boeing Alert Service Bulletin 737-53A1328, dated July 22, 2014.

(j) Exceptions to the Service Information Specifications

(1) Where Boeing Alert Service Bulletin 737-53A1328, dated July 22, 2014, specifies a compliance time “after the original issue date of this service bulletin,” this AD requires compliance within the specified compliance time after the effective date of this AD.

(2) Where Boeing Alert Service Bulletin 737-53A1328, dated July 22, 2014, specifies to contact Boeing for repair instructions: Before further flight, repair the cracking using a method approved in accordance with the procedures specified in paragraph (l) of this AD. Although Boeing Alert Service Bulletin 737-53A1328, dated July 22, 2014, specifies to contact Boeing for repair instructions, and specifies that action as Required for Compliance (RC), this AD requires repair as specified in this paragraph.

(3) Where note (e) of Figure 5 of Boeing Alert Service Bulletin 737-53A1328, dated July 22, 2014, specifies to “Refer to Paragraph 3.B., Work Instructions, Table 2 for edge margin requirements,” operators must comply with Table 3 of paragraph 3.B., “Work Instructions,” of Boeing Alert Service Bulletin 737-53A1328, dated July 22, 2014, for edge margin requirements.

(4) Where the notes for fastener codes A and B in figures 9, 10, 11, and 12 of Boeing Alert Service Bulletin 737-53A1328, dated July 22, 2014, refer to “Paragraph 3.B., Work Instructions, Table 2” for edge margin requirements, operators must comply with Table 3 of paragraph 3.B., “Work Instructions,” of Boeing Alert Service Bulletin 737-53A1328, dated July 22, 2014, for edge margin requirements.

(5) Where note (e) of figures 6, 7, and 8 and step 1.a.(1) of Part 5 of the Accomplishment Instructions of Boeing Alert Service Bulletin 737-53A1328, dated July 22, 2014, specifies to “Refer to Paragraph 3.B., Work Instructions, Table 3 for edge margin requirements,” operators must comply with Table 3 of paragraph 3.B., “Work Instructions,” of Boeing Alert Service Bulletin 737-53A1328, dated July 22, 2014, for edge margin requirements.

(k) Post-Repair Inspections/Post-Modification Inspections

Table 3 and Table 8 of paragraph 1.E., “Compliance,” of Boeing Alert Service Bulletin 737-53A1328, dated July 22, 2014, specify post-modification airworthiness limitation inspections in compliance to 14 CFR 25.571(a)(3) at the modified locations, which support compliance with 14 CFR 121.1109(c)(2) or 129.109(b)(2). As airworthiness limitations, these inspections are required by maintenance and operational rules. It is therefore unnecessary to mandate them in this AD. Deviations from these inspections require FAA approval, but do not require an alternative method of compliance.

(l) Alternative Methods of Compliance (AMOCs)

(1) The Manager, Los Angeles Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m) of this AD. Information may be emailed to: 9-ANM-LAACO-AMOC-Requests@faa.gov.

(2) Before using any approved AMOC, notify your appropriate principal inspector, or lacking a principal inspector, the manager of the local flight standards district office/certificate holding district office.

(3) Except as required by paragraph (j)(2) of this AD: For service information that contains steps that are labeled as RC, the provisions of paragraphs (l)(3)(i) and (l)(3)(ii) of this AD apply.

(i) The steps labeled as RC, including substeps under an RC step and any figures identified in an RC step, must be done to comply with this AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(4) An AMOC that provides an acceptable level of safety may be used for any repair, modification, or alteration required by this AD if it is approved by the Boeing Commercial Airplanes ODA that has been authorized by the Manager, Los Angeles ACO, to make those findings. To be approved, the repair method, modification deviation, or alteration deviation must meet the certification basis of the airplane, and the approval must specifically refer to this AD.

(m) Related Information

For more information about this AD, contact Jennifer Tsakoumakis, Aerospace Engineer, Airframe Branch, ANM-120L, FAA, Los Angeles Aircraft Certification Office (ACO), 3960 Paramount Blvd., Lakewood, CA 90712-4137; phone: 562-627-5264; fax: 562-627-5210; email: jennifer.tsakoumakis@faa.gov.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 737-53A1328, dated July 22, 2014.

(ii) Reserved.

(3) For service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on March 7, 2016.
Michael Kaszycki,
Acting Manager, Transport Airplane Directorate, Aircraft Certification Service.

[FR Doc. 2016-05842 Filed 3-17-16; 8:45 am]

BILLING CODE 4910-13-P